DEPARTMENT OF HEALTH AND HUMAN SERVICES

Administration for Children and Families

[CFDA #: 93.676]

Office of Refugee Resettlement Grant to Lutheran Immigration and Refugee Service for the Unaccompanied Alien Children's Program

AGENCY: Office of Refugee Resettlement, HHS.

ACTION: Grant award announcement.

SUMMARY: This notice is hereby given that an award is being made to Lutheran Immigration and Refugee Service (LIRS), 700 Light Street, Baltimore, MD, in the amount of $367,575 in FY03 due to urgent and compelling circumstances. The award will be used to assess and develop a capacity plan for unaccompanied alien minors transferred into the custody of the Office of Refugee Resettlement (ORR) from the Department of Homeland Security by reason of their immigration status. The program providing such services shall hereafter be referred to as the Unaccompanied Alien Children's Program (UAC).

The specific goal of the program is to facilitate the provision of family reunification and/or long-term foster care services to unaccompanied alien minors referred to LIRS by ORR and currently held in the legal custody of the ORR. The provisions of services will include child welfare related services, including family reunification and foster care placement, to alien unaccompanied minors who have been approved for such services by the appropriate entities. LIRS has extensive experience in this area drawing from the Unaccompanied Refugee Minors Program. In addition, they have one of the largest affiliate networks, allowing them to easily facilitate capacity development and establish a much needed presence in major apprehension centers.

Per the Flores v. Reno settlement agreement, no child apprehended by the Department of Homeland Security can remain in a secure detention setting for longer than 72 hours, unless warranted. Given the recent influx of apprehensions along the southwest border and southern border, ORR has the urgent need to assess and develop a capacity plan for the program.

Grant and Cooperative Agreement Program Authority for this activity is contained in the Refugee Education Assistance Act of 1980, Title V, Section 501(c) Pub. L. 94 Stat.1799, 1809-1810, Executive Order 12341, the Immigration and Naturalization Act, and Section 462 of the Homeland Security Act.

The Recipient will:

1. Assess and develop a capacity plan;

2. Identify agencies and sites for reception and assessment centers in major apprehension locations throughout the United States;

3. Develop residential, therapeutic and foster care programs;

4. Assist with developing a long-term care program;

5. Develop a system for family reunification assessment including support systems;

6. Participate in the development of a universal assessment placement plan under the direction of ORR;

7. Coordinate placement plan recommendations; and

8. Develop an assessment training manual of protocols and procedures.

Other services for these minors may be provided if ORR determines in advance that the service is reasonable and necessary for a particular minor.

LIRS will ensure services comply with State child welfare statutes and generally accepted child welfare standards, practices, principles, and procedures, and the Flores v. Reno settlement agreement. Services offered provide for the safety and security of each child.

After the appropriate reviews, it has been determined that the need to assess and develop a capacity plan is compelling. The project period is July 1, 2003 to September 30, 2006.

FOR FURTHER INFORMATION CONTACT: Theresa Bell, Office of Refugee Resettlement, Administration for Children and Families, 370 L'Enfant Promenade, SW., Washington, DC 20447, telephone (202) 401-4863.

Dated: July 3, 2003.
Nguyen Van Hanh,
Director, Office of Refugee Resettlement.

[FR Doc. 03-21784 Filed 8-25-03; 8:45 am]

BILLING CODE 4184-01-P